DEPARTMENT OF COMMERCE

International Trade Administration

Initiation of Antidumping and Countervailing Duty Administrative Reviews and Requests for Revocations in Part

AGENCY: Import Administration, International Trade Administration, Department of Commerce.

ACTION: Notice of Initiation of Antidumping and Countervailing Duty Administrative Reviews and Requests for Revocations in Part.

SUMMARY: The Department of Commerce (the Department) has received requests to conduct administrative reviews of various antidumping and countervailing duty orders and findings with February anniversary dates. In accordance with the Department's regulations, we are initiating those administrative reviews. The Department of Commerce also received a request to revoke two antidumping duty orders in part.

EFFECTIVE DATE: March 22, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2000), for administrative reviews of various antidumping and countervailing duty orders and findings with February anniversary dates. The Department also received timely requests to revoke in part the antidumping duty orders on Heavy Forged Hand Tools (axes/adzes, bars/wedges, hammers/sledges, and picks/mattocks) from the People's Republic of China and Stainless Steel Bar from India.

Initiation of Reviews

In accordance with section 19 CFR 351.221(c)(1)(i), we are initiating administrative reviews of the following antidumping and countervailing duty orders and findings. We intend to issue the final results of these reviews not later than February 28, 2002.

| Period to be reviewed
Antidumping Duty Proceedings
India: Certain Preserved Mushrooms, A-533-813 | 2/1/00-1/31/01
Agro Dutch Foods, Ltd.
Alpine Biotech, Ltd.
Mandeep Mushrooms, Ltd.
Hindustan Lever Limited (formerly Ponds India, Ltd.)
Saptarishi Agro Industries, Ltd.
Techtran Agro Industries, Ltd.
Transchem, Ltd.
Premier Mushroom Farms
Flex Foods, Ltd.
Weikfield Agro Products, Ltd.
Dinesh Agro Products, Ltd.
Himalaya International, Ltd.
Forged Stainless Steel Flanges, A-533-809 | 2/1/00-1/31/01
Echjay Forgings Limited/Pushpaman Exports
Isibars, Ltd.
Panchmahal Steel, Ltd.
Patheja Forgings and Auto Parts, Ltd.
Viraj Forgings, Ltd.
Stainless Steel Bar, A-533-810 | 2/1/00-1/31/01
Isibars Limited
Panchmahal Steel Limited
Shaw Alloys and Ferro Alloys Corp., Ltd.
Viraj Group Ltd.
Indonesia: Certain Preserved Mushrooms, A-560-802 | 2/1/00-1/31/01
PT Dieng Djaya
PT Surya Jaya Abadi Perkasa
PT Indo Evergreen Agro Business Corp.
PT Zeta Agro Corporation
Italy: Certain Cut-to-Length Carbon-Quality Steel Plate, A-475-826 | 7/29/99-1/31/01
Palini & Bertoli S.p.A.
Japan: Mechanical Transfer Presses, A-588-810 | 2/1/00-1/31/01
Hitachi Zosen Corporation
Komatsu, Ltd.
Republic of Korea: Certain Cut-to-Length Carbon-Quality Steel Plate, A-580-836 | 7/29/99-1/31/01
Dongkuk Steel Mill Co., Ltd.
The People's Republic of China: Axes/adzes*, A-570-803 | 2/1/00-1/31/01
Shandong Machinery Import & Export Corp.
Fujian Machinery & Equipment Import & Export Corp.
Tianjin Machinery Import & Export Corp.
Liaoning Machinery Import & Export Corp.
Shandong Huarong General Group Corp.
Bars/wedges*, A-570-803 | 2/1/00-1/31/01
Shandong Machinery Import & Export Corp.
Fujian Machinery & Equipment Import & Export Corp.
Tianjin Machinery Import & Export Corp.
Liaoning Machinery Import & Export Corp.
Shandong Huarong General Group Corp.
Hammers/sledges*, A-570-803 | 2/1/00-1/31/01
Shandong Machinery Import & Export Corp.
Fujian Machinery & Equipment Import & Export Corp.
Tianjin Machinery Import & Export Corp.
Liaoning Machinery Import & Export Corp.
Shandong Huarong General Group Corp.
Shandong Jinma Industrial Group Co., Ltd.** | 8/1/00-1/31/01
Picks/mattocks*, A-570-803 | 2/1/00-1/31/01
Shandong Machinery Import & Export Corp.
Fujian Machinery & Equipment Import & Export Corp.
Tianjin Machinery Import & Export Corp.
Liaoning Machinery Import & Export Corp.
Shandong Huarong General Group Corp
*If one of the above named companies does not qualify for a separate rate, all other exporters of certain heavy forged hand tools from the People's Republic of China who have not qualified for a separate rate are deemed to be covered by this review as part of a single PRC entity of which the named exporters are a part.
Certain Preserved Mushrooms ¹, A-570-851 | 2/1/00-1/31/01
China Processed Food Import & Export Co.
Gerber Food (Yunnan) Co., Ltd.
Mei Wei Food Industry Co., Ltd.
Tak Fat Trading Co.
Fujian Yu xing Fruits and Vegetables Foodstuffs Co., Ltd.
Raoping Xingyu Foods, Co., Ltd.
Raoping Yucan Canned Foods Factory
Green Fresh Foods (Zhangzhou) Co., Ltd.** | 8/1/00-1/31/01
Zhang Zhou Longhai Lubao Food Co., Ltd.** | 8/1/00-1/31/01
Citic Ningbo Import & Export Corp., Ltd.
Shanghai Foodstuffs Import and Export Corp.
Zhenjiang Cereals, Oils & Foodstuffs I/E Co., Ltd.
China Ningbo Canned Food Factory
Longhai Senox Limited
Beiliu Canned Food Factory
Fujian Cereals, Oils & Foodstuffs Import & Export (Group) Corp.
Putian Cannery Fujian Province
General Canned Food Factory of Zhangzhou Fijuian Province
Jiangsu Cereals, Oils & Foodstuffs Import & Export Group Corp.
Canned Goods Company of Raoping
Shanghai Foodstuffs Import & Export Corp.
Shenzhen Cofrey Cereals, Oils & Foodstuffs, Co., Ltd.
Xiamen Gulong Import & Export Co., Ltd.
Dongya Food Co. Ltd. Shaxian Fujian
Xiamen Jiahua Import & Export Trading Co. Ltd.
Zhejiang Cereals, Oils & Foodstuffs Import & Export Co.
Shantou Hondga Industrial General Corporation
Shenxian dongxing Foods Co., Ltd.
Creatine Monohydrate ², A-570-852 | 7/30/99-1/31/01
Blue Science International Trading (Shanghai) Co., Ltd.
Courmarin ³, A-570-830 | 2/1/00-1/31/01
Jiangsu Native Produce Import & Export Corp.
Manganese Metal ⁴, A-570-840 | 2/1/00-2/06/01
CEIEC-Hunan Company (Electronics)
London & Scandinavia Metallurgical Co., Limited
Minmetals Precious & Rate Minerals Import and Export
Shieldalloy Metallurgical Corporation
Natural Bristle Paint Brushes ⁵, A-570-501 | 2/1/00-1/31/01
Hunan Provincial Native Produce and Animal By-Products
Import and Export Corporation
Hebei Founder Import & Export Company
Countervailing Duty Proceedings
Republic of Korea
Certain Cut-to-Length Carbon-Quality Steel Plate, C-580-837 | 7/26/99-12/31/00
Dongkuk Steel Mill Co., Ltd.
Suspension Agreements
None.
**These companies are currently undergoing new shipper reviews for the period. | 2/1/00-7/31/00.
¹ If one of the above named companies does not qualify for a separate rate, all other exporters of certain heavy forged hand tools from the People's Republic of China who have not qualified for a separate rate are deemed to be covered by this review as part of a single PRC entity of which the named exporters are a part.
² If one of the above named companies does not qualify for a separate rate, all other exporters of creatine monohydrate from the People's Republic of China who have not qualified for a separate rate are deemed to be covered by this review as part of a single PRC entity of which the named exporters are a part.
³ If the above named company does not qualify for a separate rate, all other exporters of courmarin from the People's Republic of China who have not qualified for a separate rate are deemed to be covered by this review as part of the single PRC entity of which the named exporters are a part.
⁴ If one of the above named companies does not qualify for a separate rate, all other exporters of manganese metal from the People's Republic of China who have not qualified for a separate rate are deemed to be covered by this review as part of a single PRC entity of which the named exporters are a part.
⁵ If one of the above named companies does not qualify for a separate rate, all other exporters of bristle paintbrushes from the People's Republic of China who have not qualified for a separate rate are deemed to be covered by this review as part of a single PRC entity of which the named exporters are a part.

During any administrative review covering all or part of a period falling between the first and second or third and fourth anniversary of the publication of an antidumping duty order under section 351.211 or a determination under section 351.218(f)(4) to continue an order or suspensed investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: March 16, 2001.
Holly A. Kuga,
Acting Deputy Assistant Secretary, Group II for Import Administration.

[FR Doc. 01-7144 Filed 3-21-01; 8:45 am]

BILLING CODE 3510-DS-P